DEPARTMENT OF ENERGY

Federal Energy Regulatory Commission

Combined Notice of Filings #1

Take notice that the Commission received the following electric corporate filings:

Docket Numbers: EC14-90-000.

Applicants: SunEdison LLC, AES U.S. Solar, LLC.

Description: Joint Application for approval of SunEdison LLC and AES U.S. Solar, LLC under Section 203 of the Fed Power Act.

Filed Date: 5/23/14.

Accession Number: 20140523-5207.

Comments Due: 5 p.m. ET 6/13/14.

Docket Numbers: EC14-91-000.

Applicants: SunEdison LLC, Imperial Valley Solar 1, LLC.

Description: Joint Application for approval of SunEdison LLC and Imperial Valley Solar 1, LLC under Section 203 of the Federal Power Act.

Filed Date: 5/23/14.

Accession Number: 20140523-5209.

Comments Due: 5 p.m. ET 6/13/14.

Take notice that the Commission received the following electric rate filings:

Docket Numbers: ER14-1469-001.

Applicants: PJM Interconnection, L.L.C.

Description: Compliance Filing per 5/9/2014 Order in Docket No. ER14-1469-000 to be effective 3/13/2014.

Filed Date: 5/27/14.

Accession Number: 20140527-5116.

Comments Due: 5 p.m. ET 6/17/14.

Docket Numbers: ER14-1767-001.

Applicants: Titan Gas and Power.

Description: MBR Tariff to be effective 6/23/2014.

Filed Date: 5/27/14.

Accession Number: 20140527-5060.

Comments Due: 5 p.m. ET 6/17/14.

Docket Numbers: ER14-1970-001.

Applicants: Midcontinent Independent System Operator, Inc.

Description: 2014-05-23_Prohibited Investments Amendment to be effective 7/1/2014.

Filed Date: 5/23/14.

Accession Number: 20140523-5135.

Comments Due: 5 p.m. ET 6/6/14.

Docket Numbers: ER14-2036-000.

Applicants: AES Alamitos, LLC.

Description: AES Alamitos Non-Substantive Tariff Amendments Filing to be effective 5/24/2014.

Filed Date: 5/23/14.

Accession Number: 20140523-5176.

Comments Due: 5 p.m. ET 6/13/14.

Docket Numbers: ER14-2037-000.

Applicants: AES Armenia Mountain Wind, LLC.

Description: AES Armenia Non-Substantive Tariff Amendments Filing to be effective 5/24/2014.

Filed Date: 5/23/14.

Accession Number: 20140523-5181.

Comments Due: 5 p.m. ET 6/13/14.

Docket Numbers: ER14-2038-000.

Applicants: Pacific Gas and Electric Company.

Description: WPA for Del Valle Pumping Plant Line Clearance to be effective 5/27/2014.

Filed Date: 5/23/14.

Accession Number: 20140523-5182.

Comments Due: 5 p.m. ET 6/13/14.

Docket Numbers: ER14-2039-000.

Applicants: AES Energy Storage, LLC.

Description: AES Energy Storage Non-Substantive Amendments Tariff Filing to be effective 5/24/2014.

Filed Date: 5/23/14.

Accession Number: 20140523-5187.

Comments Due: 5 p.m. ET 6/13/14.

Docket Numbers: ER14-2040-000.

Applicants: AES Laurel Mountain, LLC.

Description: AES Laurel Mtn Non-Substantive Tariff Amendments to be effective 5/24/2014.

Filed Date: 5/27/14.

Accession Number: 20140527-5000.

Comments Due: 5 p.m. ET 6/17/14.

Docket Numbers: ER14-2041-000.

Applicants: AES Redondo Beach, L.L.C.

Description: AES Redondo Bch Non-Substantive Tariff Amendment Filing to be effective 5/24/2014.

Filed Date: 5/27/14.

Accession Number: 20140527-5001.

Comments Due: 5 p.m. ET 6/17/14.

Docket Numbers: ER14-2042-000.

Applicants: Mountain View Power Partners, LLC.

Description: Mountain View Non-Substantive Tariff Amendments Filing to be effective 5/24/2014.

Filed Date: 5/27/14.

Accession Number: 20140527-5002.

Comments Due: 5 p.m. ET 6/17/14.

Docket Numbers: ER14-2043-000.

Applicants: Mountain View Power Partners IV, LLC.

Description: Mountain View IV Non-Substantive Amendments Tariff Filing to be effective 5/24/2014.

Filed Date: 5/27/14.

Accession Number: 20140527-5003.

Comments Due: 5 p.m. ET 6/17/14.

Docket Numbers: ER14-2044-000.

Applicants: AES Huntington Beach, L.L.C.

Description: AES Huntington Non-Substantive Tariff Amendments Filing to be effective 5/24/2014.

Filed Date: 5/27/14.

Accession Number: 20140527-5005.

Comments Due: 5 p.m. ET 6/17/14.

Docket Numbers: ER14-2045-000.

Applicants: Duke Energy Progress, Inc., Duke Energy Florida, Inc., Duke Energy Carolinas, LLC.

Description: OATT Attachment C-1 Amendment to be effective 6/1/2014.

Filed Date: 5/27/14.

Accession Number: 20140527-5031.

Comments Due: 5 p.m. ET 6/17/14.

Docket Numbers: ER14-2046-000.

Applicants: Plum Point Energy Associates, LLC.

Description: Reactive Supply and Voltage Control Service Tariff to be effective 8/1/2014.

Filed Date: 5/27/14.

Accession Number: 20140527-5061.

Comments Due: 5 p.m. ET 6/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2014.
Nathaniel J. Davis, Sr.,
Deputy Secretary.

[FR Doc. 2014-12862 Filed 6-3-14; 8:45 am]

BILLING CODE 6717-01-P